ENVIRONMENTAL PROTECTION AGENCY

[ER-FRL-6623-1]

Environmental Impact Statements; Notice of Availability

Responsible Agency: Office of Federal Activities, General Information (202) 260-5073 OR (202) 260-5075.

Weekly receipt of Environmental Impact Statements

Filed October 15, 2001 Through October 19, 2001

Pursuant to 40 CFR 1506.9.

EIS No. 010390, Draft EIS, BLM, AZ, Diamond Bar Road Improvement Project, To Pave the Road and Realign Sections through Grapevine Wash, Right-of-Way Permits, Mohave County, AZ , Comment Period Ends: December 10, 2001, Contact: Don McClure (520) 692-4400.

EIS No. 010391, Draft EIS, FHW, NY, NYS Route 17, Horseheads Project, Reconstruction from RM 17-6205-1069 to RM 14-6201-3040, Town and Village of Horseheads (P.I.N. 6239.00) Chemung County, NY, Comment Period Ends: December 10, 2001,Contact: Robert E. Arnold (518) 431-4127.

EIS No. 010392, Final EIS, NPS, CA, Alcatraz Island Historic Preservation and Safety Construction Program, Protection and Implementation, San Francisco County, CA, Wait Period Ends: November 26, 2001, Contact: Jonathan Gervars (415) 561-4936.

EIS No. 010393, Draft EIS, NPS, AR, Little Rock Central High School National Historic Site, General Management Plan, Implementation, For Future Management and Use, Little Rock, AR, Comment Period Ends: December 26, 2001, Contact: David C. Forney (501) 324-5682. This document is available on the Internet at: http://www.nps.gov/planning/chse/dgmp/home.htm.

EIS No. 010394, Draft EIS, AFS, NM, Viveash Fire Timber Salvage Project, Proposal to Harvest a Portion of the Fire-Killed Trees, Pecos/Las Vegas Ranger District, Santa Fe National Forest, NM, Comment Period Ends: December 10, 2001, Contact: Chris Napp (505) 757-6121.

EIS No. 010395, Draft EIS, NOA, AK, American Fisheries Act Amendments 61/61/13/8: Amendments 61 Groundfish Fishery of the Bering Sea and Aleutian Islands Area; Amendments 61 Groundfish of the Gulf of Alaska; Amendents 13 Bering Sea and Aleutian Islands King and Tanner Crab, and Amendments 8 to the Scallop Fishery off Alaska, Fishery Management Plans, AK, Comment Period Ends: December 10, 2001, Contact: Kent Lind (907) 586-7228.

EIS No. 010396, Draft EIS, USA, Programmatic EIS —Army Transformation, Army Vision to Address the Changing Circumstances of the 21st Century, Transformation in three Phases: Initial Phase, Interim Capability Phase, and an Objective Force Phase, Comment Period Ends: December 10, 2001, Contact: Jim Lucas (703) 602-9794.

EIS No. 010397, Draft EIS, CGD, Programmatic EIS —Integrated Deepwater System Project, For Surface, Air, Logistics Communication and Sensor Systems, To Replace Its Aging Nation-Wide System, Nation-Wide, Comment Period Ends: December 10, 2001, Contact: Eric Johnson (202) 267-1665.

EIS No. 010398, Final EIS, AFS, OR, South Fork Burnt River Ranger Planning Area, Development of Five New Allotment Management Plans (AMPS), Wallowa-Whitman National Forest, Unity Ranger District, Baker County, OR, Wait Period Ends: November 26, 2001, Contact: Jean Lavell (541) 446-3351.

EIS No. 010399, Draft EIS, FHW, SC, James E. Clyburn Connector Project, Constructing a Two-Lane Rural Roadway Northeast of Orangeburg and Southwest of Sumter, Funding and COE Section 404 Permit, Calhoun, Claredon and Sumter Counties, SC, Comment Period Ends: December 14, 2001, Contact: Robert L. Lee (803) 765-5411.

EIS No. 010400, Draft EIS, MMS, AL, MS, TX, WA, AL, FL, LA, CA, OR, Outer Continental Shelf Oil and Gas Leasing Program: From Mid-2002 Through Mid-2007, 5-Year Schedule Leasing Program for 20 Sales in 8 of the Outer Continental Shelf Planning Areas, AL, AK, CA, FL, LA, MS, OR, TX and WA, Comment Period Ends: January 24, 2002, Contact: Richard Wildermann (703) 787-1670.

Amended Notices

EIS No. 010127, Draft EIS, AFS, ID, Caribou National Forest Land and Resource Management Plan, Implementation Revised Forest Plan,Bannock, Bear Lake. Bingham, Bonneville, Caribou,Franklin, Oneida and Power Counties, Cache and Rich Counties, UT, Lincoln County, WY , Due:November 01, 2001, Contact: Ric Rine (208)557-5766. Published FR-04-28-10—Review Period Reopened, so that Errata Sheet can be reviewed. From 08-31-01 to 11-01-2001.

EIS No. 010357, Draft EIS, SFW, Light Goose Management Plan, Implementatin, Reducing and Stabilizing Specific Populations “Light Geese” in North America , Due: December 14, 2001, Contact:Jon Andrew (703) 358-1714. Revision of FR Notice Published on 09/28/2001: CEQ Comment Period Ending 11/28/2001 has been extended to 12/14/2001.

EIS No. 010383, Draft EIS, NOA, CA, Goat Canyon Enhancement Project, Implementation, Tijuana River Estuary, City and County of San Diego, CA,Due: November 26, 2001, Contact: Nina Garfield(301) 563-1171. Published FR 10-12-01 Correction to Title and also changing the Contact Person Name and Phone Number.

Dated: October 23, 2001.
Joseph C. Montgomery,
Director, NEPA Compliance Division, Office of Federal Activities.

[FR Doc. 01-27043 Filed 10-25-01; 8:45 am]

BILLING CODE 6560-50-U